DEPARTMENT OF HEALTH AND HUMAN SERVICES

National Institutes of Health

National Institute on Alcohol Abuse and Alcoholism; Amended Notice of Meeting

Notice is hereby given of a change in the meeting of the Board of Scientific Counselors, NIAAA, September 18, 2019, 8:30 a.m. to September 18, 2019, 3:30 p.m., National Institutes of Health, Building 10, Conference Room I-2330, 10 Center Drive, Bethesda, MD 20892 which was published in the Federal Register on February 26, 2019, 84 FR 6155.

This meeting notice is amended to change the meeting location from Building 10, Conference Room I-2330, 10 Center Drive, Bethesda, MD 20892 to 5625 Fishers Lane, 5th Floor Conference Room, Rockville, MD 20852. The meeting is closed to the public.

Dated: July 24, 2019.
Melanie J. Pantoja,
Program Analyst, Office of Federal Advisory Committee Policy.

[FR Doc. 2019-16013 Filed 7-26-19; 8:45 am]

BILLING CODE 4140-01-P